ENVIRONMENTAL PROTECTION AGENCY

[FRL-7551-1]

Proposed Stipulation of Settlement Clean Air Act Citizen Suit

AGENCY: Environmental Protection Agency (EPA).

ACTION: Notice of proposed stipulation of settlement; request for public comment.

SUMMARY: In accordance with section 113(g) of the Clean Air Act, as amended (“Act”), 42 U.S.C. 7413(g), notice is hereby given of a proposed stipulation of settlement to address a lawsuit filed by the New York Public Interest Research Group, Inc. (NYPIRG) in the United States District Court for the Southern District of New York. The lawsuit was filed pursuant to section 304(a) of the Act, 42 U.S.C. 705(a) and alleges that the Administrator failed to meet a mandatory sixty day deadline under section 505(b)(2) of the Act, 42 U.S.C. 7661d(b)(2), for granting or denying petitions seeking the Agency's objection to two Clean Air Act Title V operating permits issued by the New York State Department of Environmental Conservation (DEC). In addition, NYPIRG petitioned the Administrator seeking the Agency's objection to twelve other operating permits issued by the DEC. These fourteen petitions are addressed by the proposed stipulation of settlement, which establishes a schedule for the Administrator to respond to these petitions.

DATES: Written comments on the proposed stipulation of settlement agreement must be received by September 29, 2003.

ADDRESSES: Submit your comments, identified by docket ID number OGC-2003-0001, online at http://www.epa.gov/edocket (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room B102, 1301 Constitution Ave., NW., Washington, DC, between 8:30 a.m. and 4:30 p.m. Monday through Friday, excluding legal holidays. Comments on a disk or CD-ROM should be formatted in Wordperfect or ASCII file, avoiding the use of special characters and any form of encryption, and may be mailed to the mailing address above.

FOR FURTHER INFORMATION CONTACT: Apple Chapman or Padmini Singh, Air and Radiation Law Office (2344A), Office of General Counsel, U.S. Environmental Protection Agency, 1200 Pennsylvania Ave., NW., Washington, DC 20460.

SUPPLEMENTARY INFORMATION:

I. Additional Information About the Proposed Stipulation of Settlement

NYPIRG alleges that the United States Environmental Protection Agency Administrator failed to meet a mandatory sixty day deadline under section 505(b)(2) of the Act, 42 U.S.C. 7662d(b)(2), for granting or denying petitions seeking EPA's objection to a total of fourteen Title V permits ( two in this case and an additional twelve pending before the Agency) issued by the New York State Department of Environmental Conservation.

The proposed stipulation establishes a schedule for EPA's responses to these petitions. The proposed stipulation of settlement requires EPA to sign orders responding to the plaintiffs' petitions for the following facilities no later than the dates specified:

(a) the Huntley Steam Generating Station petition, by July 31, 2003;

(b) the Dunkirk Steam Generating Station petition, by July 31, 2003;

(c) the Consolidated Edison Company of New York's Hudson Avenue Generating Station petition, by September 30, 2003;

(d) the Consolidated Edison Company of New York's Ravenswood Steam Plant petition, by September 30, 2003;

(e) the Al Turi Landfill petition, by January 23, 2004;

(f) the New York Organic Fertilizer Corporation petition, by May 22, 2004;

(g) the Sirmos Division of Bromante Corporation petition, by May 22, 2004;

(h) the New York City Transit Authority's East NY Bus Depot petition, by May 22, 2004;

(i) the Keyspan Generation Far Rockaway Station petition, by September 24, 2004;

(j) the North River Water Pollution Control Plant petition, by September 24, 2004;

(k) the Motiva Enterprises petition, by September 24, 2004;

(l) the Bristol Myers Squibb petition, by February 18, 2005;

(m) the Eastman Kodak Power Plant petition by February 18, 2005; and

(n) the Eastman Kodak Manufacturing Plant petition, by February 18, 2005.

The Administrator signed orders responding to (a) the Huntley Steam Generating Station petition, and (b) the Dunkirk Steam Generating Station petition on July 31, 2003.

For a period of thirty (30) days following the date of publication of this notice, the Agency will receive written comments relating to the proposed stipulation of settlement from persons who were not named as parties or interveners to the litigation in question. EPA or the Department of Justice may withdraw or withhold consent to the proposed stipulation of settlement if the comments disclose facts or considerations that indicate that such consent is inappropriate, improper, inadequate, or inconsistent with the requirements of the Act. Unless EPA or the Department of Justice determine, based on any comment which may be submitted, that consent to the stipulation of settlement should be withdrawn, the terms of the stipulation will be affirmed.

II. Additional Information About Commenting on the Proposed Stipulation of Settlement

A. How Can I Get A Copy of the Stipulation of Settlement?

EPA has established an official public docket for this action under Docket ID No. OGC-2003-0001 which contains a copy of the stipulation of settlement. The official public docket is available for public viewing at the Office of Environmental Information (OEI) Docket in the EPA Docket Center, EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

It is important to note that EPA's policy is that public comments, whether submitted electronically or in paper, will be made available for public viewing in EPA's electronic public docket as EPA receives them and without change, unless the comment contains copyrighted material, CBI, or other information whose disclosure is restricted by statute. Information claimed as CBI and other information whose disclosure is restricted by statute is not included in the official public docket or in EPA's electronic public docket. EPA's policy is that copyrighted material, including copyrighted material contained in a public comment, will not be placed in EPA's electronic public docket but will be available only in printed, paper form in the official public docket. Although not all docket materials may be available electronically, you may still access any of the publicly available docket materials through the EPA Docket Center.

B. How and to Whom Do I Submit Comments?

You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Your use of EPA's electronic public docket to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through EPA's electronic public docket, your e-mail address is automatically captured and included as part of the comment that is placed in the official public docket, and made available in EPA's electronic public docket.

Dated: August 21, 2003.
Lisa K. Friedman,
Associate General Counsel.

[FR Doc. 03-22159 Filed 8-28-03; 8:45 am]

BILLING CODE 6560-50-P